DEPARTMENT OF ENERGY

Federal Energy Regulatory Commission

[Project No. 6440-010]

Lakeport Hydroelectric One, LLC; Notice of Application Accepted for Filing, Soliciting Motions To Intervene and Protests, Ready for Environmental Analysis, and Soliciting Comments, Recommendations, Terms and Conditions, and Prescriptions

Take notice that the following hydroelectric application has been filed with the Commission and is available for public inspection.

a. Type of Application: Subsequent Minor License.

b. Project No.: 6440-010.

c. Date Filed: August 30, 2021.

d. Applicant: Lakeport Hydroelectric One, LLC (Lakeport).

e. Name of Project: Lakeport Hydroelectric Project (project).

f. Location: On the Winnipesaukee River in Laconia, Belknap County, New Hampshire.

g. Filed Pursuant to: Federal Power Act 16 U.S.C. 791(a)-825(r).

h. Applicant Contact: Ms. Jody Smet, Lakeport Hydroelectric One, LLC c/o Eagle Creek Renewable Energy, LLC; 7315 Wisconsin Avenue, Suite 1100W; Bethesda, MD 20814; (240) 482-2700; or email at jody.smet@eaglecreekre.com.

i. FERC Contact: Erin Kimsey, (202) 502-8621 or erin.kimsey@ferc.gov.

j. Deadline for filing motions to intervene and protests, comments, recommendations, terms and conditions, and prescriptions: 60 days from the issuance date of this notice; reply comments are due 105 days from the issuance date of this notice.

The Commission strongly encourages electronic filing. Please file motions to intervene and protests, comments, recommendations, terms and conditions, and prescriptions using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Secretary, Federal Energy Regulatory Commission, 888 First Street NE, Room 1A, Washington, DC 20426. Submissions sent via any other carrier must be addressed to: Secretary, Federal Energy Regulatory Commission, 12225 Wilkins Avenue, Rockville, Maryland 20852. All filings must clearly identify the project name and docket number on the first page: Lakeport Hydroelectric Project (P-6440-010).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is now ready for environmental analysis.

The Council on Environmental Quality (CEQ) issued a final rule on April 20, 2022, revising the regulations under 40 CFR parts 1502, 1507, and 1508 that Federal agencies use to implement the National Environmental Policy Act (NEPA) (see National Environmental Policy Act Implementing Regulations Revisions, 87 FR 23453-70). The final rule became effective on May 20, 2022. Commission staff intends to conduct its NEPA review in accordance with CEQ's new regulations.

l. The Lakeport Hydroelectric Project consists of the following existing facilities: (1) a 359-foot-long, 12.34-foot-high concrete gravity dam that includes the following sections: (a) a 60-foot-long west abutment section; (b) a 78-foot-long, 4-foot high section topped with three 10-foot-high, 18-foot-wide slide gates with a crest elevation of 505.31 feet ¹ at the top of the slide gates; (c) an approximately 15 foot-long overflow section topped with 6-inch-high flashboards with a crest elevation of 504.7 feet at the top of the flashboards; (d) an approximately 21-foot-long, 10-foot-wide center pier topped with 6-inch-high flashboards with a crest elevation of 504.7 feet at the top of the flashboards; (e) a 25-foot-long, 12.33-foot-high stoplog section; (f) a 44-foot-long, 42.17-foot-wide concrete section that is integral with the dam and that contains three 200-kW vertical submersible Flygt turbine-generator units located on outdoor concrete pilings for a total installed capacity of 600 kW and (g) an approximately 116-foot-long east abutment section that extends upstream; (2) a 220-foot-long stone training wall that extends downstream; (3) an impoundment (Lake Winnipesaukee) with a surface area of approximately 46,208 acres and a storage capacity of 165,800 acre-feet at an elevation of 504.32 feet; (4) a 2,800-square-foot forebay area; (5) a 44-foot-wide, 13-foot-high concrete and granite intake structure that is equipped with three 6-foot-diameter cylindrical headgates and a trashrack with 0.75-inch clear bar spacing; (6) a 23-foot-long, 30.5-foot-wide concrete and lumber control building adjacent to the turbine-generator units; (7) an 80-foot-long, 50-foot-wide tailrace that discharges into the Winnipesaukee River; (8) a downstream fish passage facility that consists of a collection box and a 70-foot-long, 10-inch-diameter PVC pipe; (9) three 30- to 55-foot-long, 0.48-kilovolt (kV) generator leads, three 0.48/12.4-kV step-up transformers at a substation adjacent to the control building that connect the project to the local utility distribution system; and (10) appurtenant facilities.

¹ Elevation data are presented using the National Geodetic Vertical Datum of 1929 (NGVD29).

The New Hampshire Department of Environmental Services (New Hampshire DES) owns the dam and the land occupied by the project. Lakeport leases the project land and dam from the NHDES, and operates the project in accordance with NHDES's management objectives. Lake Winnipesaukee is managed under the following schedule: Beginning on January 1, the lake is drawn down from 503.50 to 502.32 feet by the first week of March. Then, the lake is refilled to between 504.10 and 504.32 feet by June 1. From June 1 to Columbus Day, the lake elevation is maintained between 502.80 and 504.32 feet for summer recreation. From Columbus Day through December 31, the lake elevation is maintained between 503.00 and 503.50 feet for shoreline maintenance. A year-round minimum flow of 200 cubic feet per second (cfs) or greater is provided from the spillway or the powerhouse to the Winnipesaukee River.

The applicant is not proposing any changes to the project facilities or project operation.

m. A copy of the application can be viewed on the Commission's website at http://www.ferc.gov using the “eLibrary” link. Enter the docket number excluding the last three digits in the docket number field to access the document. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must: (1) bear in all capital letters the title “PROTEST,” “MOTION TO INTERVENE,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions, or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

You may also register online at https://www.ferc.gov/ferc-online/overview to be notified via email of new filings and issuances related to this or other pending projects. For assistance, contact FERC Online Support.

o. The applicant must file no later than 60 days following the date of issuance of this notice: (1) a copy of the water quality certification; (2) a copy of the request for certification, including proof of the date on which the certifying agency received the request; or (3) evidence of waiver of water quality certification. Please note that the certification request must comply with 40 CFR 121.5(b), including documentation that a pre-filing meeting request was submitted to the certifying authority at least 30 days prior to submitting the certification request. Please also note that the certification request must be sent to the certifying authority and to the Commission concurrently.

p. Procedural Schedule: The application will be processed according to the following schedule. Revisions to the schedule will be made as appropriate.

Milestone | Target date
Filing of Comments, Recommendations, Terms and Conditions, and Prescriptions | January 2024.
Filing of Reply Comments | February 2024.

q. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 14, 2023.
Kimberly D. Bose,
Secretary.

[FR Doc. 2023-25673 Filed 11-20-23; 8:45 am]

BILLING CODE 6717-01-P